COMMITTEE FOR PURCHASE FROM PEOPLE WHO ARE BLIND OR SEVERELY DISABLED

Notice Regarding Publication of Procurement List Proposed Additions; Additions and Deletions

AGENCY: Committee for Purchase From People Who Are Blind or Severely Disabled.

ACTION: Notice Regarding Publication of Proposed Additions; Additions and Deletions to and from the Procurement List.

Note: The Committee for Purchase customarily publishes notices of proposed additions and deletions and final notices on Fridays for the convenience of the public. Publication of the Committee's public notices in Document Number—2008-13361(2) took place on Monday, 06-16-2008 instead of the customary date, Friday, 06-13-2008.

Kimberly M. Zeich,
Director, Program Operations.

[FR Doc. E8-14025 Filed 6-19-08; 8:45 am]

BILLING CODE 6353-01-P